ENVIRONMENTAL PROTECTION AGENCY

[EPA-HQ-OAR-2004-0489; FRL 10023-59-OAR]

Proposed Information Collection Request; Comment Request; Air Emissions Reporting Requirements (Renewal); EPA ICR No. 2170.08, OMB Control No. 2060-0580

AGENCY: Environmental Protection Agency (EPA).

ACTION: Notice.

SUMMARY: The Environmental Protection Agency (EPA) is planning to submit an information collection request (ICR), “Air Emissions Reporting Requirements (Renewal)” (EPA ICR No. 2170.08, OMB Control No. 2060-0580) to the Office of Management and Budget (OMB) for review and approval in accordance with the Paperwork Reduction Act. Before doing so, EPA is soliciting public comments on specific aspects of the proposed information collection as described below. This is a proposed extension of the ICR, which is currently approved through December 31, 2021. An Agency may not conduct or sponsor and a person is not required to respond to a collection of information unless it displays a currently valid OMB control number.

DATES: Comments must be submitted on or before July 6, 2021.

ADDRESSES: Submit your comments, referencing Docket ID No. EPA-HQ-OAR-2004-0489, online using www.regulations.gov (our preferred method), by email to houyoux.marc@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Marc Houyoux, Air Quality Assessment Division, Office of Air Quality Planning and Standards, (C339-02), Environmental Protection Agency, 109 TW Alexander Drive, RTP, NC 27711; telephone number: (919) 541-3649; email address: houyoux.marc@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The EPA promulgated the Air Emissions Reporting Requirements (AERR) (40 CFR part 51, subpart A) to coordinate emissions inventory reporting requirements with existing requirements of the Clean Air Act and 1990 Amendments. Under this reporting, 54 state and territorial air quality agencies, including the District of Columbia, as well as an estimated 31 local and tribal air quality agencies, must submit emissions data every 3 years for all point, non-point, on-road mobile, and non-road mobile sources of volatile organic compounds, oxides of nitrogen, carbon monoxide, sulfur dioxide, particulate matter less than or equal to 10 micrometers in diameter, particulate matter less than or equal to 2.5 micrometers in diameter, ammonia, and lead.

In addition, the air quality agencies must submit annually emission data for point sources with the potential to emit at greater than specified levels of those pollutants. Fewer agencies are required to report during these interim years because of higher emissions thresholds, with an estimated 54 states/territories and 26 local and tribal agencies required to report. On average across each 3-year period, 54 states/territories and 5 local and tribal agencies are required to report.

The EPA needs the data collected from the emission reporting to compile and make available a national inventory of air pollutant emissions. A comprehensive inventory updated at regular intervals is essential to allow the EPA to fulfill its mandate to monitor and plan for the attainment and maintenance of the national ambient air quality standards established for criteria pollutants.

The number and frequency of data collection and submittal is expected to remain the same for 2022-2024.

Form Numbers: None.

Respondents/affected entities: Entities potentially affected by this action are generally state, territorial and local government air quality managements programs. Tribal governments are not affected unless they have sought and obtained treatment as state status under the Tribal Authority Rule and on that basis, are authorized to implement and enforce the AERR rule. For the most recent triennial inventory, 9 tribal agencies reported to the NEI.

Respondent's obligation to respond: This information is collected under 23 U.S.C. 101; 42 U.S.C 7401-7671q, and the authority of the AERR. This information is mandatory and, as specified, cannot be treated as confidential by the EPA.

Estimated number of respondents: 80 (total).

Frequency of response: Annual.

Total estimated burden: 48,415 hours (per year). Burden is defined at 5 CFR 1320.03(b).

Total estimated cost: $4,227,476 (per year), includes $89,600 annualized capital or operation & maintenance costs.

Changes in Estimates: There is no change in hours in the total estimated respondent burden compared with the ICR currently approved by OMB.

Dated: April 30, 2021.
Richard Wayland,
Director, Air Quality Assessment Division, Office of Air Quality Planning and Standards.

[FR Doc. 2021-09685 Filed 5-6-21; 8:45 am]

BILLING CODE 6560-50-P